TENNESSEE VALLEY AUTHORITY

Douglas and Nolichucky Tributary Reservoirs Land Management Plan, in Cocke, Greene, Hamblen, Jefferson, and Sevier Counties, TN

AGENCY: Tennessee Valley Authority (TVA).

ACTION: Issuance of Record of Decision (ROD).

SUMMARY: This notice is provided in accordance with the Council on Environmental Quality's regulations (40 CFR 1500 to 1508) and TVA's procedures for implementing the National Environmental Policy Act (NEPA). TVA has prepared the Douglas and Nolichucky Tributary Reservoirs Land Management Plan for the 3,191 acres of TVA-managed public land on these reservoirs in northeastern Tennessee. On November 4, 2010, the TVA Board of Directors (TVA Board) approved the plan, implementing the Preferred Alternative (Alternative C, Modified Land Use Alternative) identified in the final environmental impact statement (FEIS). Under the plan adopted by the TVA Board, TVA-managed public land on Douglas and Nolichucky tributary reservoirs has been allocated into broad use categories or “zones,” including Project Operations (Zone 2), Sensitive Resource Management (Zone 3), Natural Resource Conservation (Zone 4), Industrial (Zone 5), Developed Recreation (Zone 6), and Shoreline Access (Zone 7). Allocations were made in a manner consistent with TVA's 2006 Land Policy.

FOR FURTHER INFORMATION CONTACT: Amy Henry, NEPA Specialist, Environmental Permits and Compliance, Tennessee Valley Authority, 400 West Summit Hill Drive, WT 11D, Knoxville, Tennessee 37902-1499; telephone (865) 632-4045 or e-mail abhenry@tva.gov.

SUPPLEMENTARY INFORMATION: TVA manages public lands to protect the integrated operation of TVA reservoir and power systems, to provide for appropriate public use and enjoyment of the reservoir system, and to provide for continuing economic growth in the Tennessee Valley.

Douglas and Nolichucky tributary reservoirs are located in northeastern Tennessee. The reservoirs are along the Nolichucky and French Broad rivers, which flow west from North Carolina to the Tennessee River. Existing uses around the reservoirs on public and private land include TVA project operations, developed and dispersed recreation, private residences, and undeveloped areas. A total of 597 miles of shoreline surrounds these reservoirs, but the portion of shoreline owned and managed by TVA differs greatly between them, with 19 of 36 miles of Nolichucky Reservoir shoreline being managed by TVA while only 69 of the 561 miles of Douglas Reservoir shoreline are managed by TVA.

TVA originally acquired nearly 3,760 acres of land on the two reservoirs. About 15 percent of that land has been transferred to State and other Federal agencies for public recreation or natural resource conservation use. TVA presently manages approximately 3,191 acres along these reservoirs. Reservoir properties on Douglas Reservoir previously were planned in 1965 utilizing a Forecast System. Nolichucky Reservoir has never been planned.

The plan is designed to guide future decision-making and the management of these reservoir properties in a manner consistent with the 2006 TVA Land Policy and other relevant TVA policies.

Public Involvement

TVA published a notice of intent to prepare an Environmental Impact Statement (EIS) in the Federal Register on May 30, 2008. Between May 30 and July 15, 2008, TVA sought input from individuals, various State and Federal agencies, elected officials, and local organizations. Thirty participants attended a public scoping meeting held on June 12, 2008, in Morristown, Tennessee. TVA received over 100 scoping comments, the majority of which concerned management of natural and recreation resources, reservoir water levels, and land ownership issues on the Nolichucky Reservoir. TVA used these comments to develop three alternatives for assessment in the EIS: Alternative A—No Action Alternative; Alternative B—Proposed Land Use Alternative; and Alternative C—Modified Land Use Alternative.

The notice of availability (NOA) of the Draft EIS (DEIS) was published in the Federal Register on March 12, 2010. TVA accepted comments on the DEIS until April 26, 2010. Approximately 40 people attended a public meeting on April 6, 2010, in Newport, Tennessee. TVA received a total of 38 comments from individuals; interested organizations; and Federal, State, and local government agencies.

The majority of the public responses focused on land use allocation for specific parcels of TVA-managed land, in particular on the Nolichucky Reservoir. There were also comments about the NEPA process and alternative selection, stewardship of public lands, recreation on public lands including the safety of hunters and adjacent landowners, land use, and ownership. The remainder of public comments identified environmental issues such as water quality and litter, including recommendations to change the allocation of TVA land to more protective management zones.

Comments from Federal and State agencies were largely informational and included reminders of existing agreements. The Tennessee Historical Commission (THC) found that the current programmatic agreement between TVA and THC satisfied TVA's responsibilities under Section 106 of the National Historic Preservation Act. The U.S. Environmental Protection Agency (USEPA) expressed that its primary concern was the uncertainty of whether allocated lands could be reallocated by TVA to management zones with a greater potential for adverse impacts during site-specific reviews or public requests to the TVA Board. The Department of the Interior recommended that it be contacted during future site-specific reviews to evaluate the potential for future proposed projects to impact endangered and threatened species.

TVA reviewed and prepared responses to all of these comments. In some cases, the FEIS was revised to reflect the information or issues presented. After considering all of the comments, the FEIS was completed and distributed to commenting agencies and the public. In the FEIS, TVA identified Alternative C as the Preferred Alternative. The NOA of the FEIS was published in the Federal Register on September 3, 2010, when the FEIS was distributed.

Alternatives Considered

TVA considered three alternatives for managing 102 parcels of public land, comprising approximately 3,191 acres, under its management around the reservoirs. Under all alternatives, TVA would continue to conduct an environmental review to address site- and project-specific issues prior to the approval of any proposed development or activity on a land parcel. Future activities and land uses would be guided by the TVA Land Policy. About 87 percent of the reservoir lands (2,783 acres) had previous commitments specified in land use agreements (e.g., license, easement, contract) or existing plans. No changes to these committed lands are proposed under any alternative. TVA land use allocations are not intended to supersede deeded landrights or land ownership.

No Action (Alternative A): TVA would not implement a new plan and would continue using the existing Forecast System developed in 1965 for Douglas Reservoir. Nolichucky Reservoir would remain unplanned. The reservoir lands would be managed according to TVA policies and existing land use agreements. Reservoir lands would not be allocated according to TVA's current land use planning zones and, as a result, would not be in complete alignment with current TVA policies.

Proposed Land Use (Alternative B) and Modified Land Use (Alternative C): Under both Action Alternatives, TVA would implement an updated reservoir land management plan using its current land use planning zones. TVA-managed lands would be allocated to one of these zones according to current land use, existing data, and newly collected data. Under Alternative C, allocations would be based upon public comments and other information obtained during the scoping process, in addition to information considered under Alternative B.

Under Alternatives B and C, because of the large amount of committed land and common projected future land use, the proportion of lands allocated to each zone is similar. About half of the land would be allocated to Natural Resource Conservation (Zone 4) or Sensitive Resource Management (Zone 3). About one-third would be allocated to Project Operations (Zone 2), and the remainder would be allocated to Developed Recreation (Zone 6), Shoreline Access (Zone 7), or Industrial (Zone 5) uses. Compared to Alternative B, zone allocations under Alternative C differ on 16 of the 102 parcels. These 16 parcels total about 149 acres. Alternative C includes slightly less land in Zone 6 and slightly more land in Zones 3 and 4. Under Alternative C, parcels on Douglas and Nolichucky reservoirs that contain rare plants and plant communities, cultural resources, and high-quality wetlands would be allocated to Zone 3, which allows the least opportunity for development and is, therefore, the most protective of sensitive resources. Those parcels would be allocated to Zone 4 or Zone 6 under Alternative B. Therefore, under the assumption that development would be more likely to occur in Zone 6 than in Zones 3 and 4, Alternative C would result in slightly fewer opportunities for development than Alternative B.

In the FEIS, TVA considered the environmental consequences of the alternatives on a wide variety of environmental resources. No significant direct, indirect, or cumulative impacts are expected to occur to any resource under any of the alternatives. Under any alternative, potential impacts to sensitive resources, such as federally listed as endangered and federally listed as threatened species, cultural resources, and wetlands would be identified during project-specific evaluations.

Comments on the FEIS

TVA received comments on the FEIS from the USEPA; in addition, several individuals asked for minor clarification of the FEIS content but offered no comments. USEPA expressed preference for Alternative C, as it allocates more land to the most protective zones of management and agreed with TVA that Alternative C was the Environmentally Preferred Alternative. USEPA said that although it respects TVA's wishes to remain flexible in its land allocations, it believes that the plan would be more meaningful if it was more than guidance and was principally not changed during its term. USEPA's primary concern continues to be the uncertainty that lands could be reallocated to zones with less environmental protection after site-specific reviews or public requests. USEPA recommended that the TVA Board not grant reallocations of lands to less protective management zones after the issuance of a ROD and said it would not concur with reallocation to management zones with increased potential for development impacts, but would agree with reallocations to management zones of greater protection.

In response to USEPA's comments, with the approval of Alternative C by the TVA Board, all future uses of TVA lands on Douglas and Nolichucky reservoirs must be consistent with the allocations in the plan. TVA would consider the reallocation of a land parcel's management zone designation only under certain limited circumstances outlined in the TVA Land Policy. TVA may consider changing a land management zone designation outside of the normal planning process only for the purposes of providing water access for industrial or commercial recreation operations on privately owned back-lying land or implementing TVA's Shoreline Management Policy, such as to recognize previously established deeded landrights. In such circumstances, however, such a change in allocation of management zones would be subject to approval by the TVA Board or its designee, pending the completion of an appropriate environmental review. TVA would involve the public appropriately during any environmental review for a parcel reallocation.

Decision

On November 4, 2010, the TVA Board approved the plan as described in Preferred Alternative C of the FEIS. TVA believes that implementation of Alternative C provides suitable opportunities for developed recreation, conservation of natural resources, and management of sensitive resources. This decision incorporates mitigation measures that would further minimize the potential for adverse impacts to the environment. These measures are listed below.

Environmentally Preferred Alternative

The Environmentally Preferred Alternative is Alternative C, under which approximately half of reservoir lands are allocated to Natural Resource Conservation (Zone 4) and Sensitive Resource Management (Zone 3) uses. All parcels with identified sensitive resources are allocated to Zone 3, which allows the least opportunity for land disturbance and is, therefore, the most protective land use zone.

Mitigation Measures

TVA is adopting the following measures to minimize environmental impacts:

• TVA has executed a programmatic agreement (PA) with the Tennessee State Historic Preservation Officer for reservoir land management plans (RLMPs) for the identification, evaluation, and treatment of all cultural resources adversely affected by future proposed uses of TVA lands planned in RLMPs. All activities will be conducted in accordance with the stipulations defined in this PA.

• As necessary, based on the findings of any site-specific environmental review, TVA may require the implementation of appropriate mitigation measures, including best management practices as defined in TVA's “General and Standard Conditions/Best Management Practices,” as a condition of approval for use of TVA land.

• Landscaping activities on developed properties will not include the use of plants listed as Rank 1 (Severe Threat), Rank 2 (Significant Threat), or Rank 3 (Lesser Threat) on the Tennessee Exotic Plant Pest Council List of Invasive Exotic Pest Plants in Tennessee.

• Revegetation and erosion-control work will utilize seed mixes comprised of native species or noninvasive nonnative species.

With the implementation of the above measures, TVA has determined that adverse environmental impacts of future land development proposals on the TVA-managed reservoir lands would be substantially reduced. Before taking actions that could result in adverse environmental effects or before authorizing such actions to occur on properties it controls, TVA would perform a site-specific environmental review to determine the need for other necessary mitigation measures or precautions. These protective measures represent all of the practicable measures to avoid or minimize environmental harm associated with the alternative adopted by the TVA Board.

Dated: December 6, 2010.
Anda A. Ray,
Senior Vice President, Environment and Technology.

[FR Doc. 2010-31171 Filed 12-10-10; 8:45 am]

BILLING CODE 8120-08-P